DEPARTMENT OF HEALTH AND HUMAN SERVICES

Indian Health Service

Request for Public Comment: 30-day Proposed Information Collection: Indian Health Service Medical Staff Credentials and Privileges File

AGENCY: Indian Health Service, HHS.

ACTION: Notice.

SUMMARY: The Indian Health Service (IHS), as part of its continuing effort to reduce paperwork and respondent burden, conducts a pre-clearance consultation program to provide the general public and Federal agencies with an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. As required by section 3507(a)(1)(D) of the Act, the proposed information collection has been submitted to the Office of Management and Budget (OMB) for review and approval.

The IHS received no comments in response to the 60-day Federal Register notice (71 FR 35921) published on June 22, 2006. The purpose of this notice is to allow an additional 30 days for public comment to be submitted directly to OMB.

Proposed Collection: Title: 0917-0009, “Indian Health Service Medical Staff Credentials and Privileges Files.” Type of Information Collection Request: Extension of a currently approved information collection, 0917-0009, “Indian Health Service Medical Staff Credentials and Privileges Files.” Form Number: None. Need and Use of Information Collection: This collection of information is used to evaluate individual health care providers applying for medical staff privileges at IHS health care facilities. The IHS operates health care facilities that provide health care services to American Indians and Alaska Natives. To provide these service, the IHS employs (directly and under contract) several categories of health care providers including: physicians (M.D. and D.O.), dentists, psychologists, optometrists, podiatrists, audiologists, physicians assistants, certified registered nurse anesthetists, nurse practitioners, and certified nurse midwives. The IHS policy specifically requires physicians and dentists to be members of the health care facility medical staff where they practice. Health care providers become medical staff members, depending on the local health care facility's capabilities and medical staff bylaws. There are three types of IHS medical staff applicants: (1) Health care providers applying for direct employment with IHS; (2) contractors who will not seek to become IHS employees; and (3) employed IHS health care providers who seek to transfer between IHS health care facilities.

National health care standards developed by the Center for Medicare and Medicaid Services (formerly the Health Care Financing Administration), the Joint Commission on the Accreditation of Healthcare Organizations (JCAHO), and other accrediting organizations required health care facilities to review, evaluate and verify the credentials, training and experience of medical staff applicants prior to granting medical staff privileges. To meet these standards, IHS health care facilities require all medical staff applicants to provide information concerning their education, training licensure, and work experience and any adverse disciplinary actions taken against them. This information is then verified with references supplied by the applicant and may include: Former employers, educational institutions, licensure and certification boards, the American Medical Association, the Federation of State Medical Boards, the National Practitioner Data Bank, and the applicants themselves.

In addition to the initial granting of medical staff membership and clinical privileges, JCAHO standards require that a review of the medical staff be conducted not less than every two years. This review evaluates the current competence of the medical staff and verifies whether they are maintaining the licensure or certification requirements of their specialty.

The medical staff credentials and privileges records are maintained at the health care facility where the health care provider is a medical staff member. The establishment of these records at IHS health care facilities is not optional; such records must be established and maintained at all health care facilities in the United States that are accredited by JCAHO. Prior to the establishment of this JCAHO requirement, the degree to which medical staff applications were verified for completeness and accuracy varied greatly across America. Affected Public: Individuals and households. Type of Respondents: Health care providers requesting medical staff privileges at IHS health facilities.

The table below provides the following: Types of data collection instruments, estimated number of respondents, number of responses per respondent, annual number of responses, average burden hour per response, and total annual burden hour.

Data collection instrument | Estimated number of respondents | Responses per respondent | Annual number of responses | Average burden hour per response | Total annual burden hours
Application to Medical Staff | 600 | 1 | 600 | 1.00 | 600.0
Reference Letter | 1800 | 1 | 1800 | 0.33 | 594.0
Reappointment Request | 200 | 1 | 200 | 1.00 | 200.0
Medical Privileges | 387 | 1 | 387 | 1.00 | 387.0
Ob-Gyn Privileges | 25 | 1 | 25 | 1.00 | 25.0
Surgical Privileges | 23 | 1 | 23 | 1.00 | 23.0
Psychiatric Privileges | 18 | 1 | 18 | 1.00 | 18.0
Anesthesia Privileges | 16 | 1 | 16 | 1.00 | 16.0
Dental Privileges | 128 | 1 | 128 | 0.33 | 42.2
Optometric Privileges | 21 | 1 | 21 | 0.33 | 6.9
Psychology Privileges | 23 | 1 | 23 | 0.17 | 3.9
Audiology Privileges | 6 | 1 | 6 | 0.08 | 0.48
Podiatric Privileges | 6 | 1 | 6 | 0.08 | 0.48
Radiology Privileges | 9 | 1 | 9 | 0.33 | 2.9
Pathology Privileges | 3 | 1 | 3 | 0.33 | .99
Total | 3,265 |  |  |  | 1,920.85

There are no Capital Costs, Operating Costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Allison Eydt, Desk Officer for IHS.

For Further Information: Send requests for more information on the proposed collection or to obtain a copy of the data collection instrument(s) and instructions to Mrs. Christina Rouleau, IHS Reports Clearance Officer, 801 Thompson Avenue, TMP Suite 450, Rockville, MD 20852, call non-toll free (301) 443-5938, send via facsimile to (301) 443-2316, or send your e-mail requests, comments, and return address to: crouleau@hqe.ihs.gov.

Comment Due Date: Your comments regarding this information collection are best assured of having their full effect if received within 30 days of the date of this publication.

Dated: September 1, 2006.
Robert G. McSwain,
Deputy Director, Indian Health Service.

[FR Doc. 06-7522 Filed 9-7-06; 8:45 am]

BILLING CODE 4165-16-M